DEPARTMENT OF AGRICULTURE

Animal and Plant Health Inspection Service

[Docket No. APHIS-2006-0172]

Interstate Movement of Garbage From Hawaii; Availability of an Environmental Assessment and a Pest Risk Assessment

AGENCY: Animal and Plant Health Inspection Service, USDA.

ACTION: Notice of availability and request for comments.

SUMMARY: We are advising the public that the Animal and Plant Health Inspection Service has prepared a site-specific environmental assessment and a pest risk assessment relative to a request to allow the interstate movement of garbage from Hawaii to a landfill in the State of Washington. The environmental assessment contains a general assessment of the potential environmental effects associated with moving garbage interstate from Hawaii to Washington, subject to certain pest risk mitigation measures and documents our review and analysis of the environmental impacts associated with, and alternatives to, the proposed action. The pest risk assessment evaluates the risks associated with the interstate movement of garbage from Hawaii to Washington. We are making these assessments available to the public for review and comment.

DATES: We will consider all comments that we receive on or before December 8, 2006.

ADDRESSES: You may submit comments by either of the following methods:

• Federal eRulemaking Portal: Go to http://www.regulations.gov, select “Animal and Plant Health Inspection Service” from the agency drop-down menu, then click “Submit.” In the Docket ID column, select Docket No. APHIS-2006-0172 to submit or view public comments and to view supporting and related materials available electronically. Information on using Regulations.gov, including instructions for accessing documents, submitting comments, and viewing the docket after the close of the comment period, is available through the site's “User Tips” link.

• Postal Mail/Commercial Delivery: Please send four copies of your comment (an original and three copies) to Docket No. APHIS-2006-0172, Regulatory Analysis and Development, PPD, APHIS, Station 3A-03.8, 4700 River Road Unit 118, Riverdale, MD 20737-1238. Please state that your comment refers to Docket No. APHIS-2006-0172.

Reading Room: You may read any comments that we receive on the assessments in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Ms. Shannon Hamm, Assistant Deputy Administrator, Policy and Program Development, APHIS, 4700 River Road Unit 20, Riverdale, MD 20737-1231; (301) 734-4957.

SUPPLEMENTARY INFORMATION:

Background

The importation and interstate movement of garbage is regulated by the Animal and Plant Health Inspection Service (APHIS) under 7 CFR 330.400 and 9 CFR 94.5 (referred to below as the regulations) in order to protect against the introduction into and dissemination within the United States of plant and animal pests and diseases.

APHIS is advising the public that we have prepared a site-specific environmental assessment and a pest risk assessment relative to a request to allow the interstate movement of garbage from Hawaii to the State of Washington.

The environmental assessment, titled “Movement of Plastic-baled Municipal Solid Waste from Honolulu, Hawaii to Roosevelt Regional Landfill, Washington” (October 2006), contains a general assessment of the potential environmental effects associated with moving garbage interstate from Hawaii to the Roosevelt Regional Landfill in Klickitat County, WA, subject to certain pest risk mitigation measures. The environmental assessment documents our review and analysis of environmental impacts associated with, and alternatives to, the proposed action.

The pest risk assessment, titled “The Risk of Introduction of Pests to Washington State via Plastic-Baled Municipal Solid Waste from Hawaii” (September 2006), evaluates the plant pest risks associated with the interstate movement of garbage from Hawaii to the Roosevelt Regional Landfill.

We are making these assessments available to the public for review and comment. We will consider all comments that we receive on or before the date listed under the heading DATES at the beginning of this notice. The environmental assessment and pest risk assessment may be viewed on the Internet on the Regulations.gov Web site or in our reading room (see ADDRESSES above for instructions for accessing Regulations.gov and information on the location and hours of the reading room). You may request paper copies of the documents by calling or writing to the person listed under FOR FURTHER INFORMATION CONTACT. Please refer to the title of the document(s) you wish to receive when requesting copies.

The environmental assessment has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 3rd day of November 2006.
Kevin Shea,
Acting Administrator, Animal and Plant Health Inspection Service.

[FR Doc. E6-19027 Filed 11-7-06; 8:45 am]

BILLING CODE 3410-34-P